DEPARTMENT OF COMMERCE

National Oceanic and Atmospheric Administration

[I.D. 021203B]

Environmental Impact Statement (EIS) for Scientific Research on Longline Fishing—National Marine Fisheries Service, Honolulu Laboratory

AGENCY: National Marine Fisheries Service (NMFS), National Oceanic and Atmospheric Administration (NOAA), Commerce.

ACTION: Notice of intent to prepare an EIS; notice of scoping meetings; request for comments.

SUMMARY: NMFS announces its intention to prepare an EIS, pursuant to NOAA policy as described in NOAA Administrative Order 216-6, to identify and analyze a range of alternatives for fishing experiments to test methods of reducing the incidental take and mortality of threatened and endangered sea turtles by Pacific longline fisheries, as well as the issuance of any permits necessary for the conduct of this activity.

NMFS will hold scoping meetings to inform interested parties of the fishing experiments and solicit input from Federal, State and local agencies, other interested parties, and the general public on the range of actions, alternatives, and impacts that the EIS should consider, including a no-action alternative.

DATES: The meeting dates are:

1. March 27, 2003, 6 - 8 p.m., Hilo, HI.

2. April 3, 2003, 3 - 5 p.m., Silver Spring, MD.

3. April 9, 2003, 6 - 8 p.m., Honolulu, HI.

4. April 16, 2003, 3 - 5 p.m., Long Beach, CA.

Comments should be received by April 16, 2003.

ADDRESSES: The scoping meeting locations are:

1. Paki Hale, main floor, 3840 Paki Avenue, Honolulu, HI 96815.

2. NOAA Silver Spring Metro Center Complex, NOAA Science Center, 1301 East West Highway, Silver Spring, MD 20910.

3. Naniloa Hotel, Kilohana Room, 93 Banyan Drive, Hilo, HI 96720.

4. Glenn M. Anderson Federal Building, Room 3470, 501 W. Ocean Blvd., Long Beach, CA 90802.

Written comments and requests to be included on a mailing list of persons interested in the EIS should be sent to Dr. Christofer Boggs, NMFS Honolulu Laboratory, 2570 Dole Street, Honolulu, HI 96822.

FOR FURTHER INFORMATION CONTACT: Wende Goo, Management Analyst, Honolulu Laboratory, 808-983-5303

SUPPLEMENTARY INFORMATION:

Background

Given that sea turtles are known to interact with the Pacific longline fishery, NMFS believes that research is needed to investigate ways to reduce these interactions. Consequently, NMFS proposes that the Honolulu Laboratory conduct experiments to test gear modifications designed to reduce sea turtle bycatch in longline fisheries.

The objective of the proposed research is to develop gear and fishing methods that will reduce the number of endangered and threatened sea turtles incidentally caught in longline fisheries in the Pacific Ocean. Regulations closing large segments of the North Pacific fishing area to the Hawaii-based U.S. longline fleet have proven to be effective in reducing the incidental catch of sea turtles by that fleet. However, foreign fisheries in the Pacific are responsible for the vast majority of longline bycatch of sea turtles. Development and export of commercially viable gear modifications are viewed as the best means to reduce foreign bycatch of sea turtles.

The research effort is intended to meet the priority one recovery goal identified in the Final Recovery Plans for the U.S. Pacific Populations of the Loggerhead, Leatherback, Olive Ridley, and Green Turtles adopted by NMFS and the U.S. Fish and Wildlife Service (FWS). In these plans, NMFS and FWS identified monitoring and reduction of sea turtle mortality in commercial fisheries as a recovery action needed for all four species (green, leatherback, loggerhead, and olive ridley). The four species of sea turtles are listed as either endangered or threatened under the ESA, which requires that actions taken by Federal agencies must not jeopardize these species and directs these agencies to take affirmative steps to enhance their prospects for recovery.

In 2001, NMFS proposed to conduct a specific set of experiments for reducing sea turtle bycatch, and applied for a scientific research permit under the ESA in order to proceed. A permit was required because the research involved the take of listed sea turtles. That research proposal/permit application was evaluated in the Final Environmental Assessment on Issuance of Scientific Research Permit No. 1303 to the National Marine Fisheries Service, Honolulu Laboratory, dated January 2002 (Jan. 2002 EA) and in the Endangered Species Act Section 7 Consultation Biological Opinion signed January 25, 2002 (Jan. 25 BiOp). On January 25, 2002, Permit No. 1303 authorizing that research was issued under Section 10 of the ESA.

As a result of litigation challenging the permit, NMFS was ordered by the U.S. District Court of Hawaii to prepare an EIS. The Court determined that Plaintiffs demonstrated a substantial likelihood that the taking of threatened and endangered species during the course of the research may adversely affect these species, a level of effect in this particular case that could be considered significant under the National Environmental Policy Act (NEPA). The Court also noted that an EIS would have a number of benefits, including a more thorough exploration of alternatives, greater opportunity for public involvement, and the preparation of a Record of Decision that clearly lays out the decision and rationale.

NMFS subsequently withdrew Permit No. 1303 on January 8, 2003, to allow consideration of any information obtained or developed during preparation of an EIS, as well as the analysis of that information, in a reconsideration of those experiments.

Scoping for Proposed Action

Scoping for the EIS commences with publication of this Notice, which is intended to meet the NEPA scoping guidelines at 40 CFR 1501.7 and 1508.22. In addition to holding the scoping meetings announced in this Notice, NMFS is accepting written comments on the range of actions, alternatives, and impacts it should consider in the EIS.

Public involvement in the scoping of issues and alternatives is an important part of the EIS process. The action now under consideration and the subject of this EIS is the conduct of fishing experiments to test methods for reducing sea turtle bycatch by Pacific longline fisheries, including the issuance of any permits which may be necessary for the conduct of the research activity. A no-action alternative and its environmental consequences will also be considered and evaluated.

The research activities proposed are similar to those previously authorized under Permit No. 1303. Modifications or alternatives could alter the specific gear to be tested, but would not increase the number of sea turtles affected. No alternative will be considered that requires a greater take of sea turtles than the research proposed and evaluated for Permit No. 1303. Some alternatives may reduce the number of gear modifications to be tested or reduce the number of turtles affected.

NMFS anticipates that the conduct of the fishing experiments proposed will require the Office of Protected Resources to make a decision on whether or not a research permit should be issued.

Issues

As a result of preparation of the Jan. 2002 EA, the Jan. 25 BiOp, and the litigation discussed above, a number of issues associated with the research have been identified. These issues include: (1) number of sea turtle hookings and mortalities expected to result from the research; (2) effects of those hookings and mortality levels on sea turtle populations; (3) the cumulative effect on sea turtle populations resulting from the research and the numbers and species of turtles already affected by ongoing fishing and other activities; (4) how each of the four sea turtle populations would be affected if the research is not conducted; (5) effects of the research on endangered short-tailed albatross and other species of interest; (6) whether the research could meet its goals while being conducted in ways that would reduce impacts to sea turtles; (7) the likelihood that any successful fishing methods detected could successfully be transferred to and adopted by foreign longliners; (8) whether the experiment could be conducted using active vessels in current fisheries so the research would not add to the number of sea turtles already being affected by ongoing fishing activity; (9) what options exist for different experimental designs that would meet the research goals; (10) whether the results of other research conducted in the North Atlantic, Azores, and elsewhere already answer the questions to be addressed by the research; and (11) whether the methods of longline fishing to be tested would likely be commercially viable. NMFS solicits and invites public comment on these as well as other relevant issues.

Additional Information Available

The Endangered Species Act (ESA) requires a research permit for activities involving directed taking of a species listed as threatened or endangered that may include injury and potential mortality. The fishing experiments could also involve the importation of living, deeply hooked sea turtles for treatment and rehabilitation which would also require an ESA permit. The fishing experiments are anticipated to take place on the high seas as well as within the U.S. Exclusive Economic Zone (EEZ).

The Office of Protected Resources issued a Final Environmental Assessment and Biological Opinion that evaluated the effects of the proposed fishing experiments and four alternatives. These documents (Jan. 2002 EA and Jan. 25 BiOp) provide descriptions and discussions of the initial research proposal and issuance of Permit No. 1303 (now withdrawn). In addition, the FWS issued its Biological Opinion on the Effects on the Short-tailed Albatross of National Marine Fisheries Service Research on Sea Turtles in December 2001, concluding that the estimated level of take resulting from the research would not result in jeopardy to that species nor impact any critical habitat.

Alternatives considered in the Jan. 2002 EA included not issuing a permit and variations in the design of the experiments. The total takes of turtles requested to be authorized over the 3-year life of the research permit was 15 green, 44 leatherback, 233 loggerhead, and 24 olive ridley, and the requested lethal take was 117 turtles (6 green, 15 leatherback, 87 loggerhead, and 9 olive ridley). These were determined to be the number of turtles necessary for the fishing experiments to have sufficient statistical validity (that is, to be able to detect significant differences between gear types and fishing methods in their ability to reduce bycatch of sea turtles).

The Jan. 2002 EA and both Biological Opinions are available from the NMFS Honolulu Laboratory (see ADDRESSES).

The Responsible Program Manager for this EIS is Sam Pooley, Acting Director, Honolulu Laboratory, NMFS.

Special Accommodations

These meetings are accessible to people with disabilities. Requests for sign language interpretation or other auxiliary aids should be directed to Wende Goo, 808-983-5303 (voice) or 808-983-2901 (fax), at least five days before the scheduled meeting date.

Authority: 16 U.S.C. 1531 et seq., 42 U.S.C. 4371 et seq.

Dated: February 20, 2003.
Laurie K. Allen,
Director, Office of Protected Resources, National Marine Fisheries Service.

[FR Doc. 03-4565 Filed 2-26-03; 8:45 am]

BILLING CODE 3510-22-S